DEPARTMENT OF ENERGY

Federal Energy Regulatory Commission

[Docket No. RP02-122-001]

Kinder Morgan Interstate Gas Transmission LLC; Notice of Compliance Filing

April 3, 2002.

Take notice that on March 29, 2002, Kinder Morgan Interstate Gas Transmission LLC (KMIGT) tendered for filing its compliance filing to respond to certain requests for information addressed in the Commission's March 13 Order in this proceeding.

KMIGT states that it has served copies of this filing upon all parties to this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-8509 Filed 4-8-02; 8:45 am]

BILLING CODE 6717-01-P